DEPARTMENT OF ENERGY

Federal Energy Regulatory Commission

[Docket No. AD24-7-000]

Federal and State Current Issues Collaborative: Notice Announcing Meeting

On March 21, 2024, the Federal Energy Regulatory Commission (Commission) established a Federal and State Current Issues Collaborative (Collaborative) to explore cross-jurisdictional issues relevant to the Commission and state utility commissions.¹

¹ Fed. and State Current Issues Collaborative, 186 FERC ¶ 61,189 (2024) (Establishing Order).

The fourth public meeting of the Collaborative will be held on Wednesday, February 11, 2026, from approximately 1:00 p.m. to 3:30 p.m. EST, at the Westin Downtown Washington hotel in Washington, DC. The meeting will be open to the public for listening and observing and will be on the record. There is no fee for attendance and registration is not required. The public may also attend via Webcast. This meeting will be transcribed. Transcripts will be available for a fee from Ace Reporting, 202-347-3700.

The overarching topic the Collaborative will discuss is the impact of growth on affordability. As explained in the Establishing Order, the Commission will issue agendas for each meeting, after consulting with members of the Collaborative and considering suggestions from state commissions.² The Commission will issue the specific agenda for the fourth public meeting no later than January 28, 2026.

² Id. P 7.

Commission conferences are accessible under section 508 of the Rehabilitation Act of 1973. For accessibility accommodations, please send an email to accessibility@ferc.gov or call toll free 1-866-208-3372 (voice) or 202-208-8659 (TTY), or send a fax to 202-208-2106 with the required accommodations.

More information about the Collaborative is available here: https://www.ferc.gov/federal-state-current-issues-collaborative. For questions, please contact: Robert Thormeyer, 202-502-8694, robert.thormeyer@ferc.gov; Joseph Popely, 202-502-8513, joseph.popely@ferc.gov; Zoe Philippides, 202-502-8826, zoe.philippides@ferc.gov; or Kimberly Duffley, 202-898-1305, kduffley@naruc.org.

Authority: 18 CFR 2.1.

Dated: January 14, 2026.
Carlos D. Clay,
Deputy Secretary.

[FR Doc. 2026-00978 Filed 1-16-26; 8:45 am]

BILLING CODE 6717-01-P